ENVIRONMENTAL PROTECTION AGENCY

[EPA-HQ-OPPT-2008-0504; FRL-8940-8]

Agency Information Collection Activities; Submission to OMB for Review and Approval; Comment Request; Notification of Chemical Exports—TSCA Section 12(b); EPA ICR No. 0795.13, OMB No. 2070-0030

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval, entitled: “Notification of Chemical Exports—TSCA section 12(b),” (EPA ICR No. 0795.13, OMB No. 2070-0030). The ICR, which is abstracted below, describes the nature of the information collection activity and its expected burden and costs.

DATES: Additional comments may be submitted on or before September 4, 2009.

ADDRESSES: Submit your comments, referencing docket ID Number EPA-HQ-OPPT-2008-0504 to (1) EPA online using http://www.regulations.gov (our preferred method), by e-mail to oppt.ncic@epa.gov or by mail to: Document Control Office (DCO), Office of Pollution Prevention and Toxics (OPPT), Environmental Protection Agency, Mail Code: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On March 6, 2009 (74 FR 9815), EPA sought comments on this renewal ICR pursuant to 5 CFR 1320.8(d). EPA received no comments during the comment period. Any additional comments related to this renewal ICR should be submitted to EPA and OMB within 30 days of this notice.

EPA has established a public docket for this ICR under Docket ID No. EPA-HQ-OPPT-2008-0504, which is available for online viewing at http://www.regulations.gov, or in person inspection at the OPPT Docket in the EPA Docket Center (EPA/DC), EPA West, Room 3334, 1301 Constitution Ave., NW., Washington, DC. The EPA Docket Center Public Reading Room is open from 8 a.m. to 4:30 p.m., Monday through Friday, excluding legal holidays. The telephone number for the Reading Room is 202-566-1744, and the telephone number for the Pollution Prevention and Toxics Docket is 202-566-0280. Use http://www.regulations.gov to submit or view public comments, access the index listing of the contents of the public docket, and to access those documents in the public docket that are available electronically. Once in the system, select “search,” then key in the docket ID number identified above.

EPA's policy is that public comments, whether submitted electronically or in paper, will be made available for public viewing in http://www.regulations.gov as EPA receives them and without change, unless the comment contains copyrighted material, Confidential Business Information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in http://www.regulations.gov. For further information about the electronic docket, go to http://www.regulations.gov.

Title: Notification of Chemical Exports—TSCA section 12(b).

ICR Status: This ICR is currently scheduled to expire on November 30, 2009. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 12(b) of the Toxic Substances Control Act (TSCA) states, in part, that any person who exports or intends to export to a foreign country a chemical substance or mixture for which submission of data is required under TSCA section 4 or 5(b), or for which a rule, action or order has been proposed or promulgated under TSCA section 5, 6, or 7, shall notify the EPA Administrator of such export or intent to export. The Administrator in turn will notify the government of the importing country of EPA's regulatory action with respect to the substance.

The rule codified at 40 CFR part 707, subpart D requires exporters to submit an annual notice for each country to which a chemical subject to TSCA section 12(b) requirements is exported. In addition, exporters of chemicals subject to TSCA section 4 test rules are allowed to submit a one-time notice to EPA for the export of a TSCA section 4 chemical to each particular country, instead of providing annual notification.

The export notice must include five easily ascertainable items: the name and address of the exporter, the name of the chemical, the country of import, the date of export or intended export, and the section of TSCA under which EPA has taken action (section 4, 5, 6 or 7). There are currently over 1,000 substances or categories of substances that have been regulated or proposed to be regulated under the applicable sections of TSCA.

Responses to this collection of information are mandatory. Respondents may claim all or part of a notice as CBI. EPA will disclose information that is covered by a CBI claim only to the extent permitted by, and in accordance with, the procedures in 40 CFR part 2.

Burden Statement: The annual public burden for this collection of information is estimated to be about 1.18 hours per response. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are companies that export from the United States to foreign countries, or that engage in wholesale sales of, chemical substances or mixtures.

Frequency of Collection: Annual, on occasion.

Estimated Average Number of Responses for Each Respondent: 1.

Estimated No. of Annual Responses: 4,100.

Estimated Total Annual Burden on Respondents: 4,850 hours.

Estimated Total Annual Burden Costs: $264,255.

Changes in Burden Estimates: There is a decrease of 2,700 hours (from 7,550 hours to 4,850 hours) in the total estimated respondent burden compared with that identified in the information collection last approved by OMB. This decrease represents the net effect of a decrease in the estimated number of notices sent to EPA and a decrease in the number of firms sending notices, based on EPA's recent experience with TSCA section 12(b) notices.

Dated: July 30, 2009.
John Moses,
Director, Collection Strategies Division.

[FR Doc. E9-18694 Filed 8-4-09; 8:45 am]

BILLING CODE 6560-50-P